DEPARTMENT OF LABOR

Employment and Training Administration

[NAFTA—03582]

Weiser Lock, a Masco Subsidiary Including Leased Workers of Interim Personnel Adecco Employment Services, Inc. TRC Staffing Services, Inc. Tucson, Arizona; Amended Certification Regarding Eligibility To Apply for NAFTA—Transitional Adjustment Assistance

In accordance with section 250(A), Subchapter D, Chapter 2, Title II, of the Trade Act of 1974 (19 U.S.C. 2273), the Department of Labor issued a Certification for NAFTA Transitional Adjustment Assistance on December 28, 1999, applicable to workers of Weiser Lock, A Masco Subsidiary, Tucson, Arizona. The notice was published in the Federal Register on January 14, 2000 (65 FR 2433).

At the request of the company, the Department reviewed the certification for workers of the subject firm. New information provided by the company shows that some workers of Weiser Lock were leased from Interim Personnel, Adecco Employment Services, Inc., and TRC Staffing Services, Inc. to produce residential door hardware at the Tucson, Arizona plant. Worker separations occurred at these companies as a result of worker separations at Weiser Lock, A Masco Subsidiary, Tucson, Arizona.

Based on these findings, the Department is amending the certification to include workers from Interim Personnel, Adecco Employment Services, Inc., and TRC Staffing Services, Inc., Tucson, Arizona leased to Weiser Lock, A Masco Subsidiary, Tucson, Arizona.

Accordingly, the Department is amending the certification to reflect this matter.

The intent of the Department's certification is to include all workers of Weiser Lock, A Masco Subsidiary, Tucson, Arizona adversely affected by a shift of production to Mexico.

The amended notice applicable to NAFTA—03582 is hereby issued as follows:

“All workers of Weiser Lock, A Masco Subsidiary, Tucson, Arizona and leased workers of Interim Personnel, Adecco Employment Services, Inc., and TRC Staffing Services, Inc., Tucson, Arizona engaged in the production of residential door hardware for Weiser Lock, A Masco Subsidiary, Tucson, Arizona who became totally or partially separated from employment on or after November 19, 1998 through December 28, 2001 are eligible to apply for NAFTA-TAA under Section 250 of the Trade Act of 1974.”

Signed at Washington, D.C. this 3rd day of April, 2000.
Grant D. Beale,
Program Manager, Division of Trade Adjustment Assistance.

[FR Doc. 00-8918 Filed 4-10-00; 8:45 am]

BILLING CODE 4510-30-M